DEPARTMENT OF JUSTICE

Notice of Lodging of Proposed Consent Decree Under the Comprehensive Environmental Response, Compensation, and Liability Act

On June 7, 2017, the Department of Justice lodged a proposed consent decree with the United States District Court for the Middle District of Florida in the lawsuit entitled United States v. Johnson Controls, Inc. et al., Civil Action No. 6:17-cv-01028-RBD-DCI.

The United States filed this lawsuit under the Comprehensive Environmental Response, Compensation, and Liability Act (CERCLA) for the recovery of costs that the United States incurred responding to releases of hazardous substances at certain Installation Restoration Program (IRP) Sites at the Cape Canaveral Air Force Station in Brevard County, Florida. The consent decree requires the defendants, Johnson Controls, Inc., IAP World Services, Inc., and IAP Worldwide Services, Inc. to pay $3,300,000 to the United States. In return, the United States agrees not to sue the defendant under sections 106 and 107 of CERCLA at certain IRP Sites at the Cape Canaveral Air Force Station.

The publication of this notice opens a period for public comment on the consent decree. Comments should be addressed to the Assistant Attorney General, Environment and Natural Resources Division, and should refer to United States v. Johnson Controls, Inc., et al., D.J. Ref. No. 90-11-3-10477/3. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department Web site: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $5.75 (25 cents per page reproduction cost) payable to the United States Treasury.

Henry S. Friedman,
Assistant Section Chief, Environmental Enforcement Section, Environment and Natural Resources Division.

[FR Doc. 2017-12385 Filed 6-14-17; 8:45 am]

BILLING CODE P